DEPARTMENT OF JUSTICE

Notice of Lodging of Proposed Modification to Consent Decree Under the Clean Water Act

On October 25, 2023, the Department of Justice lodged a proposed a Material Modification to the Consent Decrees' Wet Weather Improvement Program (“Modification”) with the United States District Court for the Southern District of Ohio in the lawsuit entitled United States et al. v. Board of County Commissioners of Hamilton County and the City of Cincinnati, Civil Action No. C-1-02-107. The Modification (a) moves two projects back in priority order; (b) changes the descriptions and design criteria for a few projects; (c) adds a process to the Wet Weather Improvement Plan (“WWIP”) to address previously unidentified CSO or SSO outfalls; (d) adds an additional short “phase” of work to the WWIP's scheduling process; and (e) makes a few clarifying changes to other aspects of the WWIP. The parties' approval is conditioned on the Court's entry of this Modification.

The publication of this notice opens a period for public comment on the proposed Modification, which is available for public review as described below. Comments should be addressed to the Assistant Attorney General, Environment and Natural Resources Division, and should refer to United States et al. v. Board of County Commissioners of Hamilton County and the City of Cincinnati, D.J. Ref. No. 90-5-1-6-341A. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Modification may be examined and downloaded at this Justice Department website: https://www.justice.gov/enrd/consent-decrees. We will provide a paper copy of the Modification upon written request and payment of reproduction costs. Please mail your request and payment to: Consent Decree Library, U.S. DOJ—ENRD, P.O. Box 7611, Washington, DC 20044-7611.

Please enclose a check or money order for $10.75 (25 cents per page reproduction cost payable to the United States Treasury.

Patricia A. McKenna,
Assistant Section Chief, Environmental Enforcement Section, Environment and Natural Resources Division.

[FR Doc. 2023-24545 Filed 11-6-23; 8:45 am]

BILLING CODE 4410-15-P